DEPARTMENT OF TRANSPORTATION

Federal Aviation Administration

14 CFR Part 97

[Docket No. 30821; Amdt. No. 3460]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 23, 2012. The compliance date for each SIAP, associated Takeoff Minimums, and ODP is specified in the amendatory provisions.

The incorporation by reference of certain publications listed in the regulations is approved by the Director of the Federal Register as of January 23, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call (202) 741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on January 6, 2012.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 9 FEB 2012

Gadsden, AL, Northeast Alabama Rgnl, Takeoff Minimums and Obstacle DP, Amdt 4

Phoenix, AZ, Phoenix Sky Harbor Intl, ILS OR LOC RWY 7R, Amdt 2

Phoenix, AZ, Phoenix Sky Harbor Intl, ILS OR LOC 25L, Amdt 1E

Tracy, CA, Tracy Muni, RNAV (GPS) RWY 12, Amdt 1

Longmont, CO, Vance Brand, RNAV (GPS)-B, Amdt 1

Longmont, CO, Vance Brand, Takeoff Minimums and Obstacle DP, Amdt 1

Longmont, CO, Vance Brand, VOR/DME-A, Amdt 2

Windsor Locks, CT, Bradley Intl, RNAV (GPS) RWY 33, Amdt 2A

Washington, DC, Ronald Reagan Washington National, Takeoff Minimums and Obstacle DP, Amdt 7

Fort Pierce, FL, St Lucie County Intl, RNAV (GPS) RWY 14, Amdt 1

Fort Pierce, FL, St Lucie County Intl, RNAV (GPS) RWY 32, Amdt 1

Fort Pierce, FL, St Lucie County Intl, VOR/DME RWY 14, Amdt 9

Titusville, FL, Arthur Dunn Air Park, GPS RWY 15, Orig-B, CANCELLED

Titusville, FL, Arthur Dunn Air Park, GPS RWY 33, Orig-B, CANCELLED

Titusville, FL, Arthur Dunn Air Park, RNAV (GPS) RWY 15, Orig

Titusville, FL, Arthur Dunn Air Park, RNAV (GPS) RWY 33, Orig

West Palm Beach, FL, Palm Beach Intl, ILS OR LOC RWY 10L, Amdt 26

West Palm Beach, FL, Palm Beach Intl, RNAV (GPS) Y RWY 10L, Amdt 3

West Palm Beach, FL, Palm Beach Intl, RNAV (RNP) Z RWY 10L, Amdt 1

Perry, IA, Perry Muni, GPS RWY 14, Orig-B, CANCELLED

Perry, IA, Perry Muni, RNAV (GPS) RWY 14, Orig

Perry, IA, Perry Muni, RNAV (GPS) RWY 32, Amdt 1

Belleville, IL, Scott AFB/Midamerica, ILS OR LOC/DME RWY 32L, Amdt 1

Belleville, IL, Scott AFB/Midamerica, TACAN RWY 14R, Amdt 1

Belleville, IL, Scott AFB/Midamerica, TACAN RWY 32L, Amdt 1

Chicago/Prospect Heights/Wheeling, IL, Chicago Executive, RNAV (GPS) RWY 16, Amdt 1

Chicago/West Chicago, IL, Dupage, ILS OR LOC RWY 10, Amdt 8

Decatur, IL, Decatur, RNAV (GPS) RWY 12, Orig

Decatur, IL, Decatur, RNAV (GPS) RWY 30, Amdt 1

Moline, IL, Quad City Intl, ILS OR LOC RWY 9, Amdt 31

Moline, IL, Quad City Intl, RNAV (GPS) RWY 9, Amdt 1

Moline, IL, Quad City Intl, RNAV (GPS) RWY 27, Amdt 1

Moline, IL, Quad City Intl, RNAV (GPS) Y RWY 27, Orig, CANCELLED

Augusta, KS, Augusta Muni, VOR/DME-A, Amdt 1

Plymouth, MA, Plymouth Muni, ILS OR LOC/DME RWY 6, Amdt 1A

Fort Meade (Odenton), MD, Tipton, VOR-A, Amdt 1, CANCELLED

Brunswick, ME, Brunswick Executive, ILS OR LOC/DME RWY 1R, Orig

Battle Creek, MI, W K Kellogg, RNAV (GPS) RWY 31, Orig

Battle Creek, MI, W K Kellogg, VOR OR TACAN OR GPS RWY 31, Amdt 14 CANCELLED

Cook, MN, Cook Muni, RNAV (GPS) RWY 13, Orig

Cook, MN, Cook Muni, RNAV (GPS) RWY 31, Amdt 1

Ely, MN, Ely Muni, RNAV (GPS) RWY 12, Amdt 1

Ely, MN, Ely Muni, RNAV (GPS) RWY 30, Amdt 1

Worthington, MN, Worthington Muni, ILS OR LOC RWY 29, Orig-B

Asheboro, NC, Asheboro Muni, NDB RWY 21, Amdt 3, CANCELLED

Raleigh/Durham, NC, Raleigh-Durham Intl, NDB RWY 23L, Amdt 5, CANCELLED

Rockingham, NC, Richmond County, NDB RWY 32, Amdt 3B, CANCELLED

Siler City, NC, Siler City Muni, NDB RWY 22, Amdt 1, CANCELLED

Morristown, NJ, Morristown Muni, RNAV (GPS) RWY 5, Amdt 3

Aiken, SC, Aiken Muni, ILS OR LOC/DME RWY 7, Orig

Aiken, SC, Aiken Muni, LOC RWY 7, Orig, CANCELLED

Aiken, SC, Aiken Muni, RNAV (GPS) RWY 7, Amdt 1

Aiken, SC, Aiken Muni, RNAV (GPS) RWY 25, Amdt 1

Spartanburg, SC, Spartanburg Downtown Memorial, ILS OR LOC RWY 5, Amdt 1A

Bristol/Johnson/Kingsport, TN, Tri-Cities Rgnl TN/VA, ILS OR LOC RWY 5, Amdt 3

Bristol/Johnson/Kingsport, TN, Tri-Cities Rgnl TN/VA, RNAV (GPS) RWY 5, Amdt 1

Bristol/Johnson/Kingsport, TN, Tri-Cities Rgnl TN/VA, RNAV (GPS) RWY 23, Amdt 1

Bristol/Johnson/Kingsport, TN, Tri-Cities Rgnl TN/VA, RNAV (GPS) Y RWY 23, Orig, CANCELLED

Springfield, TN, Springfield Robertson County, LOC RWY 4, Amdt 3

Springfield, TN, Springfield Robertson County, RNAV (GPS) RWY 4, Amdt 1

Springfield, TN, Springfield Robertson County, RNAV (GPS) RWY 22, Amdt 1

Springfield, TN, Springfield Robertson County, Takeoff Minimums and Obstacle DP, Amdt 1

Houston, TX, Ellington Field, ILS OR LOC RWY 17R, Amdt 6

Houston, TX, Ellington Field, ILS OR LOC RWY 22, Amdt 3E

Houston, TX, Ellington Field, ILS OR LOC RWY 35L, Amdt 5B

Houston, TX, Ellington Field, RNAV (GPS) RWY 4, Amdt 1A

Houston, TX, Ellington Field, RNAV (GPS) RWY 35L, Orig-B

Houston, TX, Ellington Field, TACAN RWY 17R, Orig

Houston, TX, Ellington Field, TACAN RWY 22, Orig

Houston, TX, George Bush Intercontinental/Houston, ILS OR LOC RWY 26L, ILS RWY 26L (CAT II), ILS RWY 26L (CAT III), ILS RWY 26L (SA CAT I), Amdt 20

Houston, TX, George Bush Intercontinental/Houston, ILS OR LOC RWY 26R, ILS RWY 26R (CAT II), ILS RWY 26R (CAT III), ILS RWY 26R (SA CAT I), Amdt 3

Houston, TX, George Bush Intercontinental/Houston, ILS OR LOC RWY 27, ILS RWY 27 (CAT II), ILS RWY 27 (CAT III), ILS RWY 27 (SA CAT I), Amdt 9

Houston, TX, George Bush Intercontinental/Houston, RNAV (GPS) Z RWY 26L, Amdt 3

Houston, TX, George Bush Intercontinental/Houston, RNAV (GPS) Z RWY 26R, Amdt 3

Houston, TX, George Bush Intercontinental/Houston, RNAV (GPS) Z RWY 27, Amdt 3

Bryce Canyon, UT, Bryce Canyon, RNAV (GPS) RWY 21, Amdt 1

St. George, UT, St. George Muni, LDA/DME RWY 19, Orig-A

St. George, UT, St. George Muni, RNAV (GPS) RWY 19, Orig-A

Franklin, VA, Franklin Muni-John Beverly Rose, RNAV (GPS) RWY 9, Amdt 1

Franklin, VA, Franklin Muni-John Beverly Rose, RNAV (GPS) RWY 27, Amdt 1

Williamson, WV, Mingo County Rgnl, RNAV (GPS) RWY 8, Orig

Williamson, WV, Mingo County Rgnl, RNAV (GPS) RWY 26, Orig

[FR Doc. 2012-804 Filed 1-20-12; 8:45 am]

BILLING CODE 4910-13-P